DEPARTMENT OF TRANSPORTATION

Federal Aviation Administration

14 CFR Part 39

[Docket No. FAA-2021-0259; Project Identifier AD-2020-01128-E; Amendment 39-21900; AD 2022-02-03]

RIN 2120-AA64

Airworthiness Directives; CFM International, S.A. Turbofan Engines

AGENCY: Federal Aviation Administration (FAA), DOT.

ACTION: Final rule; correction.

SUMMARY: The FAA is correcting an airworthiness directive (AD) that published in the Federal Register. The AD applies to CFM International, S.A. CFM56-3 and CFM56-7B model turbofan engines with certain accessory gearbox assembly (AGB) not equipped with a dynamic oil seal assembly in the handcranking pad. As published, the part numbers (P/Ns) listed in paragraph (i)(2)(i) are incorrect. This document corrects that error. In all other respects, the original document remains the same; however, for clarity, the FAA is publishing the entire rule in the Federal Register.

DATES: This correction is effective March 22, 2022. The effective date of AD 2022-02-03 remains March 22, 2022.

ADDRESSES: For service information identified in this final rule, contact CFM International, S.A., Aviation Operations Center, 1 Neumann Way, M/D Room 285, Cincinnati, OH 45125; phone: (877) 432-3272; email: fleetsupport@ge.com. You may view this service information at the FAA, Airworthiness Products Section, Operational Safety Branch, 1200 District Avenue, Burlington, MA 01803. For information on the availability of this material at the FAA, call (817) 222-5110. It is also available at https://www.regulations.gov by searching for and locating Docket No. FAA-2021-0259.

Examining the AD Docket

You may examine the AD docket at https://www.regulations.gov by searching for and locating Docket No. FAA-2021-0259, or in person at Docket Operations between 9 a.m. and 5 p.m., Monday through Friday, except Federal holidays. The AD docket contains this final rule, any comments received, and other information. The address for Docket Operations is U.S. Department of Transportation, Docket OperationsM-30, West Building Ground Floor, Room W12-140, 1200 New Jersey Avenue SE, Washington, DC 20590.

FOR FURTHER INFORMATION CONTACT: Kevin Clark, Aviation Safety Engineer, ECO Branch, FAA, 1200 District Avenue, Burlington, MA 01803; phone: (781) 238-7088; fax: (781) 238-7199; email: kevin.m.clark@faa.gov.

SUPPLEMENTARY INFORMATION: AD 2022-02-03, 39-21961 (87 FR 8402, February 15, 2022) (AD 2022-02-03), requires independent inspection to verify re-installation of the AGB handcranking pad cover after maintenance. AD 2022-02-03 also requires the replacement of the affected AGB with a part eligible for installation as a terminating action to the inspection requirement.

Need for the Correction

As published, the P/Ns listed in paragraph (i)(2)(i) of the AD, which defines a part eligible for installation, are incorrect. The P/Ns were incorrectly listed as 340-046-503-0, 340-046-504-0, and 340-046-505-0. The correct P/Ns are 335-300-103-0, 335-300-105-0, 335-300-106-0, 335-300-107-0, 335-300-108-0, 335-300-109-0, and 335-300-110-0.

Although no other part of the preamble or regulatory information has been corrected, for clarity, the FAA is publishing the entire rule in the Federal Register.

The effective date of this AD remains March 22, 2022.

Good Cause for Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found that the risk to the flying public justifies foregoing notice and comment prior to adoption of this rule because this action correctsP/Ns that were correctly identified in a notice of proposed rulemaking, which published in the Federal Register on May 3, 2021 (86 FR 23301). Accordingly, notice and opportunity for prior public comment are unnecessary pursuant to 5 U.S.C. 553(b).

In addition, the FAA finds that good cause exists pursuant to 5 U.S.C. 553(d) for making this amendment effective in less than 30 days, for the same reasons the FAA found good cause to forego notice and comment.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) by correcting 87 FR 8402, (February 15, 2022), beginning at page 8405, column 2 as follows:

PART 39—AIRWORTHINESS DIRECTIVES

1. The authority citation for part 39 continues to read as follows:

Authority: 49 U.S.C. 106(g), 40113, 44701.

§ 39.13 [Corrected]

2. The FAA amends § 39.13 by:

a. Removing airworthiness directive 2013-26-01, Amendment 39-17710 (78 FR 79295, December 30, 2013); and

b. Adding the following new airworthiness directive:

2022-02-03 CFM International, S.A.: Amendment 39-21900; Docket No. FAA-2021-0259; Project Identifier AD-2020-01128-E.

(a) Effective Date

This airworthiness directive (AD) is effective March 22, 2022.

(b) Affected ADs

This AD replaces AD 2013-26-01, Amendment 39-17710 (78 FR 79295, December 30, 2013).

(c) Applicability

This AD applies to CFM International, S.A. CFM56-3 and CFM56-7B model turbofan engines equipped with an accessory gearbox (AGB) assembly with the following part numbers (P/Ns):

(1) For CFM56-3, CFM56-3B, and CFM56-3C model turbofan engines, AGB P/N: 335-300-103-0, 335-300-105-0, 335-300-106-0, 335-300-107-0, 335-300-108-0, 335-300-109-0, or 335-300-110-0, installed.

(2) For CFM56-7B20, CFM56-7B20/2, CFM56-7B20/3, CFM56-7B22, CFM56-7B22/2, CFM56-7B22/3, CFM56-7B22/3B1, CFM56-7B22/B1, CFM56-7B24, CFM56-7B24/2, CFM56-7B24/3, CFM56-7B24/3B1, CFM56-7B24/B1, CFM56-7B26, CFM56-7B26/2, CFM56-7B26/3, CFM56-7B26/3B1, CFM56-7B26/3B2, CFM56-7B26/3B2F, CFM56-7B26/3F, CFM56-7B26/B1, CFM56-7B26/B2, CFM56-7B27, CFM56-7B27/2, CFM56-7B27/3, CFM56-7B27/3B1, CFM56-7B27/3B1F, CFM56-7B27/3B3, CFM56-7B27/3F, CFM56-7B27/B1, and CFM56-7B27/B3 model turbofan engines, AGB P/N: 340-046-503-0, 340-046-504-0, or 340-046-505-0, installed.

(3) For CFM56-7B27A, CFM56-7B27A/3, or CFM56-7B27AE model turbofan engines, AGB P/N: 340-188-601-0, 340-188-603-0, or 340-188-605-0, installed.

(d) Subject

Joint Aircraft System Component (JASC) Code 7260, Turbine Engine Accessory Drive.

(e) Unsafe Condition

This AD was prompted by a dual engine loss of oil event and 42 prior events of total loss of engine oil during flight. The FAA is issuing this AD to prevent loss of engine oil while in flight. The unsafe condition, if not addressed, could result in engine failure, loss of thrust control, reduced control of the aircraft, and damage to the airplane.

(f) Compliance

Comply with this AD within the compliance times specified, unless already done.

(g) Required Actions

(1) After the effective date of this AD, after any maintenance that involves removal and re-installation of the AGB handcranking pad cover, perform an independent inspection to verify re-installation of the AGB handcranking pad cover; or

(2) Prior to the next removal of the AGB handcranking pad cover from the engine, insert the independent inspection required by paragraph (g)(1) of this AD as a required inspection item in the existing approved continuous airworthiness maintenance program for the aircraft.

(h) Mandatory Terminating Action

As a mandatory terminating action to the requirements of paragraph (g) of this AD:

(1) For affected CFM56-3, CFM56-3B, and CFM56-3C model turbofan engines, at the next engine shop visit, or before December 31, 2026, whichever occurs first after the effective date of this AD, replace the affected AGB with a part eligible for installation.

(2) For affected CFM56-7B model turbofan engines, except for CFM56-7B27A, CFM56-7B27A/3, and CFM56-7B27AE model turbofan engines, at the next engine shop visit, or before December 31, 2024, whichever occurs first after the effective date of this AD, replace the affected AGB with a part eligible for installation.

(i) Definition

(1) For the purpose of this AD, an “engine shop visit” is the induction of an engine into the shop for maintenance involving the separation of pairs of major mating engine case flanges, except for the following situations, which do not constitute an engine shop visit:

(i) Separation of engine flanges solely for the purposes of transportation of the engine without subsequent maintenance; or

(ii) Separation of engine flanges solely for the purpose of replacing the fan or propulsor without subsequent maintenance.

(2) For the purpose of this AD, for affected CFM56-3, CFM56-3B, and CFM56-3C model turbofan engines, a part eligible for installation is:

(i) An AGB with a P/N other than 335-300-103-0, 335-300-105-0, 335-300-106-0, 335-300-107-0, 335-300-108-0, 335-300-109-0, 335-300-110-0; or

(ii) An AGB that, using an FAA-approved procedure, has been re-worked with a dynamic oil seal in the handcranking pad cover assembly and re-identified with a new P/N not listed in paragraph (i)(2)(i) of this AD.

Note 1 to paragraph (i)(2)(ii): Procedures to install a dynamic oil seal in the handcranking pad cover assembly can be found in CFM International SB CFM56-3S/B 72-1129, Revision 7, dated May 6, 2020.

(3) For the purpose of this AD, for affected CFM56-7B model turbofan engines, except for CFM56-7B27A, CFM56-7B27A/3, and CFM56-7B27AE model turbofan engines, a part eligible for installation is:

(i) An AGB with a P/N other than 340-046-503-0, 340-046-504-0, or 340-046-505-0; or

(ii) An affected AGB that, using an FAA-approved procedure, has been re-worked with a dynamic oil seal in the handcranking pad cover assembly and re-identified with a new P/N not listed in paragraph (i)(3)(i) of this AD.

Note 2 to paragraph (i)(3)(ii): Procedures to install a dynamic oil seal in the handcranking pad cover assembly can be found in CFM International SB CFM56-7BS/B 72-0879, Revision 7, dated February 10, 2021, CFM56-7B S/B 72-0564, Revision 9, dated December 3, 2021, or CFM56-7B S/B 72-1071, initial issue, dated December 3, 2021.

(j) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD. You may email your request to: ANE-AD-AMOC@faa.gov.

(2) Before using any approved AMOC, notify your appropriate principal inspector, or lacking a principal inspector, the manager of the local flight standards district office/certificate holding district office.

(k) Related Information

For more information about this AD, contact Kevin Clark, Aviation Safety Engineer, ECO Branch, FAA, 1200 District Avenue, Burlington, MA 01803; phone: (781) 238-7088; fax: (781) 238-7199; email: kevin.m.clark@faa.gov.

(l) Material Incorporated by Reference

None.

Issued on February 23, 2022.
Derek Morgan,
Acting Director, Compliance & Airworthiness Division, Aircraft Certification Service.

[FR Doc. 2022-04149 Filed 2-28-22; 8:45 am]

BILLING CODE 4910-13-P